DEPARTMENT OF THE INTERIOR

National Park Service

[NPS-WASO-NRNHL-0711-8064; 2280-665]

National Register of Historic Places; Notification of Pending Nominations and Related Actions

Nominations for the following properties being considered for listing or related actions in the National Register were received by the National Park Service before July 23, 2011. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by August 30, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

COLORADO

Huerfano County

Veta Pass, 3652, 3665, 3688 Cty. Rd. 443, La Veta, 11000607

Pueblo County

Pueblo Christopher Columbus Monument, Median in 100 Blk. of E. Abriendo Ave., Pueblo, 11000608

CONNECTICUT

Fairfield County

Graham House, Address Restricted, Stamford, 11000609

Hartford County

Sigourney Square Historic District (Boundary Increase), 207 Garden St., Hartford, 11000610

New Haven County

Academy of Our Lady of Mercy at Lauralton Hall, 200 High St., Milford, 11000611

Armstrong, M. and Company Carriage Factory, 433 Chapel St., New Haven, 11000612

IDAHO

Blaine County

Fox-Worswick House, 119 E. Bullion St., Hailey, 11000613

MASSACHUSETTS

Berkshire County

Wheeler Family Farmstead, 817 S. Main St., Great Barrington, 11000614

Worcester County

Hassanamisco Reservation, 80 Brighton Hill Rd., Grafton, 11000615

MICHIGAN

Wayne County

Tushiyah United Hebrew School—Scott Memorial Methodist Episcopal Church, 609 E. Kirby, Detroit, 11000616

MISSOURI

St. Louis Independent City

St. Louis Place Historic District, Roughly bounded by 21st, 22nd, 23rd, 25th, Benton, Montgomery, & N. Market Sts., Rauschenbach & St. Louis Aves., St. Louis (Independent City), 11000617

NEBRASKA

Morrill County

Mud Springs Station Archeological District (Boundary Increase), (Conflict & Warfare in the North & South Platte Valleys of Nebraska, 1864-1865 MPS) Address Restricted, Dalton, 11000618

Rush Creek Battlefield, (Conflict & Warfare in the North & South Platte Valleys of Nebraska, 1864-1865 MPS) Address Restricted, Broadwater, 11000619

NEW YORK

New York County

Fourth Church of Christ, Scientist, The, 551 Ft. Washington Ave., Manhattan, 11000620

NORTH CAROLINA

Gates County

Reid's Grove School, 931 Main St., Gatesville, 11000621

Orange County

Eno Cotton Mill, 437 Dimmocks Mill Rd., Hillsborough, 11000622

Rowan County

Christ Episcopal Church, 3430 Old US 70, Cleveland, 11000623

OREGON

Douglas County

Mill-Pine Neighborhood Historic District (Boundary Decrease), Roughly bounded by Short St., Mosher Ave., Stephens St. and Rice Ave., Roseburg, 11000624

Multnomah County

Powers, Ira F., Warehouse and Factory, 123 NE. 3rd Ave., Portland, 11000625

WASHINGTON

King County

Liggett Building, 1424 4th Ave., Seattle, 11000626

Pierce County

Skansie, Andrew & Bertha, Net Shed and House, 3207 Harborview Dr., Gig Harbor, 11000627

[FR Doc. 2011-20619 Filed 8-12-11; 8:45 am]

BILLING CODE 4312-51-P